DEPARTMENT OF THE INTERIOR

Fish and Wildlife Service

[FWS-R8-ES-2012-N112: FXES11120800000F2-123-FF08ECAR00]

Receipt of Application for the Amendment of the Incidental Take Permit for the Multiple Species Conservation Program County of San Diego Subarea Plan, County of San Diego, California

AGENCY: Fish and Wildlife Service, Interior.

ACTION: Notice of receipt of permit amendment application; request for comments.

SUMMARY: We, the U.S. Fish and Wildlife Service (Service) intend to amend the incidental take permit (PRT-840414) issued for the Multiple Species Conservation Program County of San Diego Subarea Plan (MSCP Subarea Plan). The County of San Diego (Applicant) has requested an amendment to the incidental take permit. The amendment would modify the MSCP Subarea Plan boundary to add approximately 210 acres of land solely for conservation purposes. If amended, no additional incidental take will be authorized. The Applicant will follow all other existing habitat conservation plan conditions. We also announce a public comment period.

DATES: To ensure consideration, please send your written comments by July 18, 2012.

ADDRESSES: To request further information or submit written comments, please use one of the following methods and note that your information request or comment is in reference to the MSCP Subarea Plan:

• Email: Karen_Goebel@fws.gov. Include “MSCP Subarea Plan” in the subject line of the message.

• U.S. Mail: Field Supervisor, Fish and Wildlife Service, Carlsbad Fish and Wildlife Office, 6010 Hidden Valley Road, Suite 101, Carlsbad, California 92011.

• In-Person Drop-off, Viewing, or Pickup: Call 760-431-9440 to make an appointment during regular business hours to drop off comments or view received comments at this location:

• Fax: Field Supervisor, 760-918-0638, Attn. MSCP Subarea Plan.

FOR FURTHER INFORMATION CONTACT: Ms. Karen Goebel, Assistant Field Supervisor, Carlsbad Fish and Wildlife Office (see ADDRESSES); telephone: 760-431-9440. If you use a telecommunications device for the deaf, please call the Federal Information Relay Service at 800-877-8339.

SUPPLEMENTARY INFORMATION: We, the Service, have made a preliminary determination that amendment of the permit is neither a major Federal action that will significantly affect the quality of the human environment within the meaning of section 102(2)(C) of the National Environmental Policy Act (NEPA), nor will it individually or cumulatively have more than a negligible effect on the species covered in the MSCP Subarea Plan. Therefore, the permit amendment qualifies as a categorical exclusion under NEPA as provided by the Department of Interior Manual (516 DM 2, Appendix 1 and 516 DM 6, Appendix 1).

Background

On March 17, 1998, the Service issued an incidental take permit (PRT-840414), pursuant to section 10(a)(1)(B) of the Endangered Species Act (16 U.S.C. 1531 et seq.) for 85 species covered by the MSCP Subarea Plan. The MSCP Subarea Plan boundary encompasses 252,132 acres of unincorporated land in south San Diego County, California. Opportunity for public review of the original permit application and the habitat conservation plan was provided in the Federal Register on March 28, 1997 (62 FR 14938) and November 14, 1997 (62 FR 61140).

The Applicant is seeking an amendment to their incidental take permit, consistent with section 1.14.2 of the MSCP Subarea Plan Implementing Agreement, to modify the MSCP Subarea Plan boundary to add 210.6 acres of land for conservation purposes (i.e., a “hardline preserve”) in contemplation of establishing a privately-owned mitigation bank. Establishment of the bank would be a future action that would require a formalized conservation banking agreement consistent with section 9.13 of the MSCP Subarea Plan Implementing Agreement.

The conservation lands are located in an unincorporated portion of northern San Diego County in the community of Ramona, approximately 1 mile north of the existing MSCP Subarea Plan boundary. The conservation land consists of 4 parcels; a single 63-acre parcel (Assessor's Parcel Number [APN] 277-050-32), and 3 parcels totaling 147.6 acres (APN 277-121-05, 277-111-09, and 277-121-08) (i.e., unsectioned lands within Township 13 South, Range 1 West of the U.S. Geological Survey 7.5-minute San Pasqual quadrangle). The parcels are contiguous with other conserved lands and support vernal pool, riparian, and nonnative grassland habitats. Sensitive species documented on the parcels include the federally listed endangered San Diego fairy shrimp (Branchinecta sandiegonensis) and the burrowing owl (Athene cunicularia), an MSCP Subarea Plan covered species. More details on the specific parcels and their locations are available in the permit amendment application (see ADDRESSES).

Public Availability of Comments

Written comments we receive become part of the public record associated with this action. Before including your address, phone number, email address, or other personal identifying information in your comments, you should be aware that your entire comment—including your personal identifying information—may be made publicly available at any time. While you can ask us in your comment to withhold your personal identifying information from public review, we cannot guarantee that we will be able to do so.

Authority

We provide this notice under section 10(c) the Act (16 U.S.C. 1531 et seq.) and by NEPA regulations (40 CFR 1506.6).

Jim A. Bartel,
Field Supervisor, Carlsbad Fish and Wildlife Office.

[FR Doc. 2012-14744 Filed 6-15-12; 8:45 am]

BILLING CODE 4310-55-P